DEPARTMENT OF COMMERCE

International Trade Administration

[A-570-928]

Uncovered Innerspring Units From the People's Republic of China: Final Results of Antidumping Duty Administrative Review; 2015-2016

AGENCY: Enforcement and Compliance, International Trade Administration, Department of Commerce.

SUMMARY: On November 7, 2016, the Department of Commerce (the Department) published the preliminary results of the administrative review of the antidumping duty order on uncovered innerspring units (innersprings) from the People's Republic of China (PRC). We gave interested parties an opportunity to comment on the preliminary results, and based upon our analysis of the comments received, our final results remain unchanged from the preliminary results. In these final results, we determine that innersprings are being, or are likely to be, sold in the United States at less than fair value. The period of review (POR) is February 1, 2015, through January 31, 2016. The final weighted-average dumping margin is listed below in the Final Results of Review section of this notice.

DATES: Effective March 16, 2017.

FOR FURTHER INFORMATION CONTACT: Kenneth Hawkins, AD/CVD Operations, Office V, Enforcement and Compliance, International Trade Administration, U.S. Department of Commerce, 1401 Constitution Avenue NW., Washington, DC 20230; telephone: (202) 482-6491.

SUPPLEMENTARY INFORMATION:

Background

This review covers one exporter of subject merchandise: Enchant Privilege Sdn Bhd (Enchant Privilege). On November 7, 2016, the Department published the Preliminary Results in the Federal Register, and provided interested parties an opportunity to comment.¹ On December 7, 2016, the Department received a case brief from Leggett and Platt, Inc. (Petitioner).² No other interested party filed case or rebuttal briefs.

¹ See Uncovered Innerspring Units From the People's Republic of China: Preliminary Results of the Antidumping Duty Administrative Review; 2015-2016, 81 FR 78116 (November 7, 2016) (Preliminary Results) and accompanying Preliminary Decision Memorandum.

² See Letter from Petitioners, to the Department, regarding Seventh Administrative Review of the Antidumping Duty Order on Uncovered Innerspring Units from the People's Republic of China: Case Brief, dated December 7, 2016 (Petitioner's Case Brief).

Scope of the Order

The merchandise subject to the order is uncovered innerspring units.³ The product is currently classified under subheading 9404.29.9010 and have also been classified under subheadings 9404.10.0000, 9404.29.9005, 9404.29.9011, 7326.20.0070, 7320.20.5010, 7320.90.5010, or 7326.20.0071 of the Harmonized Tariff Schedule of the United States (HTSUS). The HTSUS subheadings are provided for convenience and customs purposes only; the written description of the scope of the order is dispositive.

³ For a complete description of the scope of the order, see Memorandum to Ronald Lorentzen, Acting Assistant Secretary for Enforcement and Compliance, “Uncovered Innerspring Units from the People's Republic of China: Issues and Decision Memorandum for the Final Results of the 2015-2016 Administrative Review” (“Issues and Decision Memorandum”), dated concurrently with this notice.

Analysis of Comments Received

All issues raised in Petitioner's case brief are addressed in the Issues and Decision Memorandum, which is incorporated herein by reference. A list of the issues which parties raised, and to which we respond in the Issues and Decision Memorandum, is attached to this notice as an Appendix. The Issues and Decision Memorandum is a public document and is on file electronically via Enforcement and Compliance's Antidumping and Countervailing Duty Centralized Electronic Service System (ACCESS). ACCESS is available to registered users at http://access.trade.gov, and it is available to all parties in the Central Records Unit, Room B8024 of the main Department of Commerce building. In addition, a complete version of the Issues and Decision Memorandum can be accessed directly on the internet at http://enforcement.trade.gov/frn/index.html. The signed Issues and Decision Memorandum and the electronic versions of the Issues Decision Memorandum are identical in content.

Use of Facts Available and Adverse Facts Available

In the Preliminary Results, because Enchant Privilege failed to respond to the Department's questionnaire, we determined Enchant Privilege's margin on the basis of facts available, pursuant to section 776(a)(1) & (2)(A), (B), and (C) of the Tariff Act of 1930 (the Act). We also applied an adverse inference in selecting from among the facts available, pursuant to section 776(b) of the Act, because we found that Enchant Privilege failed to cooperate to the best of its ability in providing the requested information.⁴

⁴ See Preliminary Results, and accompanying Preliminary Decision Memorandum at 4-5.

No parties commented on this specific determination or on the margin assigned to Enchant Privilege in the Preliminary Results. Accordingly, we are continuing to assign to Enchant Privilege a dumping margin of 234.51 percent, based on total adverse facts available.

Final Results of Review

Enchant Privilege's weighted-average dumping margin for the period February 1, 2015, through January 31, 2016, is as follows:

Exporter | Weighted- average dumping margin (percent)
Enchant Privilege Sdn Bhd ⁵ | 234.51

Assessment

⁵ Because Enchant Privilege is located in Malaysia, we are treating it as a third-country reseller. Accordingly, this rate only applies to Enchant Privilege's exports of PRC-origin innersprings.

Pursuant to section 751(a)(2)(A) of the Act and 19 CFR 351.212(b), the Department will determine, and U.S. Customs and Border Protection (CBP) shall assess, antidumping duties on all appropriate entries. The Department intends to issue assessment instructions to CBP 15 days after the date of publication of the final results of review in the Federal Register. For Enchant Privilege, the Department will instruct CBP to assess antidumping duties on the company's entries of subject merchandise (i.e., PRC-origin innersprings) at the rate of 234.51 percent.

Cash Deposit Requirements

The following cash deposit requirements will be effective upon publication of the final results of this administrative review for all shipments of the subject merchandise from the PRC entered, or withdrawn from warehouse, for consumption on or after the publication date, as provided for by section 751(a)(2)(C) of the Act: (1) For Enchant Privilege, the cash deposit rate will be 234.51 percent for its entries of subject merchandise (i.e., PRC-origin innersprings); (2) for previously investigated or reviewed PRC and non-PRC exporters not listed above that have a separate rate, the cash deposit rate will continue to be the exporter-specific rate published for the most recently completed segment of this proceeding in which the exporter was reviewed; (3) for all PRC exporters of subject merchandise which have not been found to be entitled to a separate rate, the cash deposit rate will be that established for the PRC-wide entity of 234.51 percent; and (4) for all non-PRC exporters of subject merchandise which have not received their own rate, the cash deposit rate will be the rate applicable to the PRC exporter that supplied that non-PRC exporter with the subject merchandise. The deposit requirements, when imposed, shall remain in effect until further notice.

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

Administrative Protective Order

In accordance with 19 CFR 351.305(a)(3), this notice also serves as a final reminder to parties subject to administrative protective order (APO) of their responsibility concerning the return or destruction of proprietary information disclosed under APO, which continues to govern business proprietary information in this segment of the proceeding. Timely written notification of the return or destruction of APO materials, or conversion to judicial protective order, is hereby requested. Failure to comply with the regulations and terms of an APO is a violation which is subject to sanction.

Notification to Interested Parties

We are issuing and publishing these results of review in accordance with sections 751(a)(1) and 777(i) of the Act.

Dated: March 7, 2017.
Ronald K. Lorentzen,
Acting Assistant Secretary for Enforcement and Compliance.

Appendix—List of Topics Discussed in the Final Decision Memorandum

1. Summary

2. Background

3. Scope of the Order

4. Use of Facts Otherwise Available and Adverse Inferences

5. Discussion of the Issue

6. Recommendation

[FR Doc. 2017-05276 Filed 3-15-17; 8:45 am]

BILLING CODE 3510-DS-P